ENVIRONMENTAL PROTECTION AGENCY

[EPA-HQ-OW-2015-0614; FRL 9940-24-OEI]

Information Collection Request Submitted to OMB for Review and Approval; Comment Request; BEACH Act Grants (Renewal)

AGENCY: Environmental Protection Agency (EPA).

ACTION: Notice.

SUMMARY: The Environmental Protection Agency has submitted an information collection request (ICR), “BEACH Act Grants (Renewal)” (EPA ICR No. 2048.05, OMB Control No. 2040-0244) to the Office of Management and Budget (OMB) for review and approval in accordance with the Paperwork Reduction Act (44 U.S.C. 3501 et seq.). This is a proposed extension of the ICR which is currently approved through December 31, 2015. Public comments were previously requested via the Federal Register (80 FR 61419) on October 13, 2015, during a 60-day comment period. This notice allows for an additional 30 days for public comments. A fuller description of the ICR is given below, including its estimated burden and cost to the public. An Agency may not conduct or sponsor and a person is not required to respond to a collection of information unless it displays a currently valid OMB control number.

DATES: Additional comments must be submitted on or before January 27, 2016.

ADDRESSES: Submit your comments, referencing Docket ID Number EPA-HQ-OW-2015-0614, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Tracy Bone, OW, 4305T, Environmental Protection Agency, 1200 Pennsylvania Ave. NW., Washington, DC 20460; telephone number: 202-564-5257; email address: bone.tracy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Beaches Environmental Assessment and Coastal Health (BEACH) Act amends the Clean Water Act (CWA) in part and authorizes the U.S. Environmental Protection Agency (EPA) to award BEACH Act Program Development and Implementation Grants to coastal and Great Lakes states, tribes, and territories (collectively referred to as states) for their beach monitoring and notification programs. The grants assist those states to develop and implement a consistent approach to monitor recreational water quality; assess, manage, and communicate health risks from waterborne microbial contamination; notify the public of pollution occurrences, and post beach advisories and closures to prevent public exposure to microbial pathogens. To qualify for a BEACH Act Grant, a state must submit information to EPA documenting that its beach monitoring and notification program is consistent with 11 performance criteria outlined in the National Beach Guidance and Required Performance Criteria for Grants, 2014 Edition.

Form Numbers: None.

Respondents/affected entities: Environmental and public health agencies in states, territories, and tribes.

Respondent's obligation to respond: Required (Environmental Assessment and Coastal Health (BEACH) Act amendment to the Clean Water Act (CWA)).

Estimated number of respondents: 38 (total).

Frequency of response: Annually & quarterly.

Total estimated burden: 91,276 hours (per year). Burden is defined at 5 CFR 1320.03(b)

Total estimated cost: $15,453,308 (per year), includes $11,353,146 annualized capital or operation & maintenance costs.

Changes in Estimates: There is an increase of 2,464 hours in the total estimated respondent burden compared with the ICR currently approved by OMB. This increase is due to an additional respondent qualifying for a grant, however this increase is partially offset by efficiencies in data processing and reporting.

Courtney Kerwin,
Acting Director, Collection Strategies Division.

[FR Doc. 2015-32612 Filed 12-24-15; 8:45 am]

BILLING CODE 6560-50-P